DEPARTMENT OF COMMERCE

National Oceanic and Atmospheric Administration

[I.D. 071703A]

Fisheries of the Caribbean, Gulf of Mexico, and South Atlantic; Reef Fish Fishery of the Gulf of Mexico; Coastal Migratory Pelagic Resources of the Gulf of Mexico and South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Mr. Jody Symons on behalf of Florida Offshore Aquaculture, Inc. of Madeira Beach, FL. If granted, the EFP would authorize a feasibility study for 24 months of net cage culture of cobia, mahi-mahi, greater amberjack, Florida pompano, red snapper and cubera snapper at a site approximately 33 statute miles (53 km) WSW. of John's Pass, FL. According to the applicant, the purpose of the proposed study is to determine the feasibility to grow commercial quantities of native fish species in the offshore environment of the eastern Gulf of Mexico using mariculture techniques. The applicant proposes to place hatchery-raised juvenile fish in net cages, feed them, allow them to grow for approximately 4 months, harvest each cage three times annually, land them in Florida, and sell them. No wild-caught fish will be involved in this study.

DATES: Comments must be received no later than 5 p.m., eastern time, on August 29, 2003.

ADDRESSES: Comments on the application must be mailed to Peter Eldridge, Southeast Regional Office, NMFS, 9721 Executive Center Drive N., St. Petersburg, FL 33702. Comments also may be sent via fax to 727-570-5583. Comments will not be accepted if submitted via e-mail or Internet. The application and related documents are available for review upon written request to the address above.

FOR FURTHER INFORMATION CONTACT: Peter Eldridge, 727-570-5305; fax: 727-570-5583; e-mail: peter.eldridge@noaa.gov.

SUPPLEMENTARY INFORMATION: The EFP is requested under the authority of the Magnuson-Stevens Fishery Conservation and Management Act (16 U.S.C. 1801 et seq.), and regulations at 50 CFR 600.745(b), concerning scientific research activity, exempted fishing permits, and exempted educational activity.

Florida Offshore Aquaculture, Inc., of Madeira Beach, FL intends to conduct a feasibility study for 24 months to determine if it is practical to raise commercial quantities of cobia, mahi-mahi, greater amberjack, red snapper and cubera snapper in nets at a site approximately 33 statute miles (53 km) WSW. of John's Pass, FL (27°34.79′ N. lat., 83°16.11′ W. long.; depth 109 ft (33.2 m)). An important objective of the project is to determine environmentally responsible procedures that should be employed to ensure minimal environmental impacts on native species as well as the habitat surrounding the project, which will be approximately 1 square mile in area. The proposed site is over sandy bottom and is not in a traditional fishing area for recreational and commercial fisheries. Thus, there should be minimal interaction between the mariculture site and fishermen.

Four to eight Sea Station TM cages will be deployed. These cages have a central steel support spar within a steel tubular ring with spoke lines radiating from the top and bottom of the spar to the ring and a net stretched over the outside of this spar and cable frame. This design is self-supporting and provides total encasement of the fish; each cage is 53 ft (16 m) tall and 83 ft (25 m) in diameter and will contain a maximum fish biomass of 165,000 lb (75,000 kg). The cages utilize a net made out of spectra fiber and are stretched tightly over the entire structure, which greatly reduces the possibility of entanglement by sea turtles and marine mammals. The cages will be submerged except during harvesting and should pose no foreseeable threat to sea birds. Each cage will be attached to four 2,000-kg Danforth anchors to prevent movement from the site.

The stocking schedule is as follows: Cobia will be the first species stocked. There will be four 6-month stocking phases. During the first phase, four cages will be deployed, stocked and harvested; during the second phase stocking and harvesting of the initial four cages will continue; during the third phase four additional cages will be deployed with cobia, mahi-mahi, greater amberjack, Florida pompano, red snapper and cubera snapper. During the fourth phase stocking and harvesting of all species will occur.

Disease-free fingerlings will be obtained from the Aquaculture Center of the Florida Keys (59300 Overseas Highway, Marathon, FL, phone 305-743-6135) and the Marine Science Institute of the University of Texas (750 Channel View Drive, Port Aransas, TX, phone 361-749-6795). In the event that the fish in the cages develop diseases or parasites from wild sources and treatments are indicated, they will be treated with U.S. Food and Drug Administration (FDA)-approved vaccines, drugs or antibiotics only. This will be done in their feed or, in the extreme case, the cage(s) will be enclosed with material and will be treated with U.S. FDA-approved vaccines, drugs or antibiotics in solution. If any fish are found to have commutable virus, the entire population of the affected cage will be immediately removed and destroyed. The brood stock and their spawn will be genetically tagged using the satellite DNA method. The Florida Fish and Wildlife Conservation Commission (FFWCC) facility at Port Manatee, FL, will conduct this phase of the research.

Feeds for this project will be commercially manufactured diets formulated for the species being fed from established aquaculture feed companies. The pelletized feeds will contain essential feed ingredients only and will minimize introduction of materials not utilized in the digestive process of the grow out species. No bycatch from any fisheries will be used as a source of food for this project.

There will be a comprehensive environmental monitoring program for the project developed by the Environmental Protection Agency. The monitoring program is described in Appendix 2 of the environmental assessment prepared for granting of an EFP for the project, should the project be approved. A copy of the environmental assessment can be obtained from Peter J. Eldridge (see ADDRESSES).

The monitoring program will utilize a transect approach to sampling. Benthic and water quality samples will be collected at intervals on two transects passing through the center of the cluster of cages. Each transect will be 2 km in length, and the transects intersect at the center of the cage cluster. The first transect lies parallel to the predominate current direction, and the second transect lies perpendicular to the first, or the predominate current. Control samples, water and benthos unaffected by cage operations, will be collected at the end of each transect. Prior to sampling, a description of the bathymetric and topographic characteristics of the mariculture site will be conducted.

During each sampling event, at the beginning and end of the period of active sampling, sea surface conditions (wind, wave amplitude and frequency, rain, cloud cover, and air temperature) will be recorded. Also, current stocking density, feeding rate reported on a per-cage and total-farm basis, and an analysis of feed contents (feed label information) will be noted.

Physical and chemical water quality parameters will include dissolved oxygen, salinity, temperature, turbidity, total suspended solids, chlorophyll, ammonia-N, nitrite-N, nitrate-N and total phosphate. The above water quality parameters will be assessed at mid-water and a meter from the bottom at each of the water quality sampling sites. Current speed and direction will be measured at each sampling event. The results of each monthly monitoring event will be submitted to the U.S. Environmental Protection Agency within 60 working days of sample collection. Specifications in the monitoring program are subject to modification.

NMFS intends to add the following conditions to any issuance of the EFP to ensure that there are no significant impacts on the environment or on our enforcement efforts regarding existing prohibitions on the taking of these species.

Proposed Conditions

1. Applicant must notify NMFS of any changes to the list of hatcheries to be used.

2. All fingerlings must be certified by the hatchery to be disease-free prior to placement in the cages.

3. Only chemotherapeutants approved by FDA or prescribed by a qualified veterinarian may be used.

4. Use of toxic chemicals as defined in 50 CFR 622.2 to control fouling of nets is prohibited.

5. Immediate notification must be provided to NMFS if any of the following events occur:

a. damage to cages or malfunction of supporting structures;

b. large-scale escapement, i.e., loss of more than 20 percent of a cage population;

c. Major disease outbreak resulting in mortalities exceeding 10 percent; or

d. entanglements of marine mammals or endangered or threatened sea turtles.

6. Quarterly reports are required beginning 90 days after anchoring cages in site on:

a. any disease occurrence;

b. any use of chemotherapeutants approved by FDA or prescribed by a qualified veterinarian;

c. outcome of any events requiring immediate notification (see 5 above);

d. changes in faunal composition of the area around the experimental site;

e. substrate and water quality monitoring;

f. harvests of maricultured fish species.

7. The following samples/records must be maintained a minimum of at least one year after the termination of the EFP and made available for inspection:

a. sources of feed including batch codes;

b. sources of each group of fish stocked including:

1. total number of fish by species;

2. estimated size of fish;

3. date of each introduction/stocking;

4. name, address and phone number of suppliers(s);

5. disease status of supplier's facility including, name, address, and phone number of analytical facilities assessing disease status;

6. samples of frozen specimens of each group of fish including fish harvested from cages, and during any unusual morbidity or mortality events as per USDA standards; and,

7. phase one fry will be satellite DNA documented by FFWCC geneticists at Port of Manatee Hatchery.

8. Fish must be maintained intact through offloading ashore. Fish will be placed in live haul containers located on the harvest vessels, brought to shore, and loaded on live haul trucks for sale to traditional live markets. Any fish over the capacity of the live market will be processed at Double D Seafood in St. Petersburg, FL and sold. Once harvested, the maricultured fish must be reported in accordance with state and Federal reporting requirements. Sale is allowed only to dealers licensed by Florida to sell maricultured fishery products landed in Florida.

9. Not less than 24 hours prior to harvest, provide the following information to the NMFS Law Enforcement Office, Southeast Region, St. Petersburg, FL, (727-570-5344): date, port, and facility at which maricultured product will be landed and name(s) and phone number(s) of licensed dealer(s) receiving the fish.

10. NMFS retains the authority to make periodic inspections of mariculture operations and records. If the applicant becomes a certified Florida aquaculturist, the applicant must notify NMFS Law Enforcement of the annual unique serial number required on all mariculture records, including sales, and the records must be made available for inspection by authorized officers and maintained for the duration of the EFP plus 1 year.

11. NMFS has the authority to suspend or revoke the EFP if: the application is found to contain false, incomplete, or inaccurate information; the applicant fails to comply with its terms and conditions; significant new information becomes available indicating that one of the conditions for denial of the EFP application applies (See 50 CFR 600.745(b)(8)). Revocation will require a General Counsel enforcement action per 600.745(b)(8) and 15 CFR 904 regulations.

12. Issuance of the EFP does not eliminate the need for the applicant to obtain any other Federal, state, or local authorizations required by law.

Based on a preliminary review, NMFS finds that this application warrants further consideration and is considering issuing an EFP. A final decision on issuance of the EFP will depend on a NMFS review of public comments received on the application, conclusions of environmental analyses conducted pursuant to the National Environmental Policy Act, and consultations with Florida, the Gulf of Mexico Fishery Management Council, the U.S. Coast Guard and the Environmental Protection Agency. The applicant requests a 24-month effective period for the EFP.

Authority: 16 U.S.C. 1801 et seq.

Dated: July 25, 2003.
Bruce C. Morehead,
Acting Director, Office of Sustainable Fisheries, National Marine Fisheries Service.

[FR Doc. 03-19376 Filed 7-29-03; 8:45 am]

BILLING CODE 3510-22-S